COMMISSION ON CIVIL RIGHTS

Notice of Public Meeting of the North Carolina Advisory Committee for a Meeting To Hear Testimony on the Civil Rights Implications of Environmental Justice in North Carolina

AGENCY: U.S. Commission on Civil Rights.

ACTION: Notice of meeting.

SUMMARY: Notice is hereby given, pursuant to the provisions of the rules and regulations of the U.S. Commission on Civil Rights (Commission) and the Federal Advisory Committee Act that the North Carolina Advisory Committee will hold a meeting on Thursday, April 7, 2016, beginning at 09:00 a.m. for the purpose of hearing testimony regarding the issue of civil rights implications of environmental issues in North Carolina, particularly as it relates to coal ash disposal.

This meeting is open to the public, and will take place at the Walnut Cove Public Library, 106 5th Street, Walnut Cove, North Carolina 27052. Members of the public are invited to make statements during the open comment period beginning at 4:00 p.m. In addition, members of the public may submit written comments; the comments must be received in the regional office within 30 days following the meeting. Written comments may be mailed to the Southern Regional Office, U.S. Commission on Civil Rights, 61 Forsyth St., Suite 16T126, Atlanta, Georgia 30303. They may also be faxed to the Commission at (404) 562-7005, or emailed to Jeff Hinton Allen at jhinton@usccr.gov. Persons who desire additional information may contact the USCCR, Southern Regional Office at (404) 562-7000.

Records and documents discussed during the meeting will be available for public viewing prior to and following the meeting at http://facadatabase.gov/committee/meetings.aspx?cid=266 and following the links for “Meeting Details” and then “Documents.” Records generated from this meeting may also be inspected and reproduced at the Southern Regional Office, as they become available, both before and after the meeting. Persons interested in the work of this Committee are directed to the Commission's Web site, http://www.usccr.gov, or may contact the Southern Regional Office at the above email or street address.

DATES: The meeting will be held on Thursday, April 7, 2016, from 9:00 a.m. to 5:00 p.m. EST.

ADDRESSES: Walnut Cove Public Library, 106 5th Street, Walnut Cove, North Carolina 27052.

Agenda

I. Introductory Remarks by Chairman: 9:00 a.m.

II. Panel 1: Government Officials, Community Leaders/Advocates: 9:10 a.m.-10:20 a.m.

Questions from Committee Members

Break: 10:20 a.m.-10:30 a.m.

III. Panel 2: Environment/Health Issues: 10:30 a.m.-11:50 p.m.

Questions from Committee Members

Lunch: 11:50 p.m.-1:20 p.m.

IV. Panel 3: Coal Industry Executives and Advocacy Groups: 1:20p.m.-2:30 p.m.

Questions from Committee Members

V. Break: 2:30p.m.-2:40 p.m.

VI. Panel 4: Coal Ash Activists/Advocates: 2:40 p.m.-4:00 p.m.

Questions from Committee Members

VII. Open Comments Period: 4:00 p.m.-5:00 p.m.

Questions from Committee Members

VIII. Adjourn Briefing: 5:15 p.m.

FOR FURTHER INFORMATION CONTACT: Jeff Hinton, DFO, (404) 562-7006 or jhinton@usccr.gov.

Dated: March 8, 2016.
David Mussatt,
Chief, Regional Programs Unit, USCCR.

[FR Doc. 2016-05476 Filed 3-10-16; 8:45 am]

BILLING CODE 6335-01-P